Proclamation 10971 of September 18, 2025

Constitution Week, 2025

By the President of the United States of America

A Proclamation

This week our Nation proudly celebrates the 238th anniversary of the signing of the United States Constitution—the legendary charter that established our experiment in self-government as the greatest Republic ever conceived. This Constitution Week, we commit to renewing the sacred bonds of American citizenship and refortifying our storied national customs, culture, heritage, and values. Above all, as we begin to celebrate 250 glorious years of American Independence, we pledge allegiance to our beautiful American flag and everything for which it stands—and we vow to honor, revere, and safeguard our Constitution against all enemies, foreign and domestic.

When our Founding Fathers gathered at Independence Hall in Philadelphia in 1787, they codified the timeless truth enshrined in our Declaration of Independence—that the rights to life, liberty, and the pursuit of happiness are granted not by government, but by God—into an enumerated system. The Constitution established our system of Government and immortalized the cornerstone American principles of federalism, the rule of law, and the separation of powers. Guided by these eternal truths, our Nation has been unfailingly sustained by its devotion to justice, sovereignty, and the common good of its citizens. To this day, these principles and our constitutional framework remain the bedrock of our Nation and the fount of our greatness.

Our ancestors believed that the privileges of citizenship also come with obligations—including love of country, devotion to our fellow countrymen, and a steadfast commitment to preserving our inheritance of freedom. From the very beginning of our national story, responsible citizenship has meant obeying our laws, defending our flag, honoring our heritage, and guarding our homeland and our constitutional way of life against those who seek to destroy it—from within or without.

For this reason, on my first day in office, I signed an Executive Order to Protect the Meaning and Value of American Citizenship, reaffirming that citizenship is a sacred bond between citizen and country.

I am further defending the value of American citizenship and fighting back against the left-wing arsonists seeking to defile our history and defame our Founding by teaching the truth about our Nation's history in our museums, saving American education and returning power to the American parent, and shutting down every radical “Diversity, Equity, and Inclusion” program in the Federal Government.

I have also taken bold action to preserve the dignity of the American flag—the banner under which millions have fought and died—by signing an Executive Order to prosecute those who desecrate our Stars and Stripes.

As we approach the 250th anniversary of our Independence next year, we proudly recommit to upholding our constitutional heritage, striving toward a more perfect Union, and forging a future that honors our values, celebrates our traditions, and restores America as one glorious Nation under God.

The Congress, by joint resolution of February 29, 1952 (36 U.S.C. 106), designated September 17 as “Constitution Day and Citizenship Day,” and by joint resolution of August 2, 1956 (36 U.S.C. 108), requested that the President proclaim the week beginning September 17 and ending September 23 of each year as “Constitution Week.”

NOW, THEREFORE, I, DONALD J. TRUMP, President of the United States of America, by virtue of the authority vested in me by the Constitution and the laws of the United States, do hereby proclaim the week of September 17 through September 23, 2025, as Constitution Week. Throughout this week, I call on all teachers, school administrators, and State and local leaders to educate America's pupils on the rights and responsibilities of citizenship under our constitutional order. In doing so, we will ensure “a more perfect Union,” will continue to prosper for generations to come.

IN WITNESS WHEREOF, I have hereunto set my hand this eighteenth day of September, in the year of our Lord two thousand twenty-five, and of the Independence of the United States of America the two hundred and fiftieth.

[FR Doc. 2025-18485

Filed 9-22-25; 11:15 am]

Billing code 3395-F4-P